NATIONAL SCIENCE FOUNDATION

Special Emphasis Panel in Chemistry; Notice of Meeting

In accordance with the Federal Advisory Committee Act (Pub. L. 92-463, as amended), the National Science Foundation announces the following meeting:

Name: Special Emphasis Panel in Chemistry (#1191).

Date/Time: May 22 and 23, 2001.

Place: Room 1060, NSF, 4201 Wilson Boulevard, Arlington, VA.

Type of Meeting: Closed.

Contact Person: Dr. Katharine Covert, Program Officer, Special Projects Office, Chemistry Division, Room 1055, National Science Foundation, 4201 Wilson Boulevard, Arlington, VA 22230, Telephone: (703)292-4950.

Purpose of Meeting: To provide advice and recommendations concerning proposals submitted to NSF for financial support.

Agenda: To review and evaluate proposals for Collaborative Research in Chemistry (CRC) as part of the selection process for awards.

Reason for Closing: The proposals being reviewed include information of a proprietary or confidential nature, including technical information, financial data such as salaries, and personal information concerning individuals associated with the proposals. These matters are exempt under 5 U.S.C.552b(c) (4) and (6) of the Government in the Sunshine Act.

Dated: March 20, 2001.
Susanne Bolton,
Committee Management Officer.

[FR Doc. 01-7298 Filed 3-22-01; 8:45 am]

BILLING CODE 7555-01-M